DEPARTMENT OF TRANSPORTATION

Federal Aviation Administration

14 CFR Part 71

[Docket No. FAA-2020-1146; Airspace Docket No. 20-AEA-10]

RIN 2120-AA66

Proposed Establishment, Amendment, and Revocation of Air Traffic Service (ATS) Routes; Northeast United States

AGENCY: Federal Aviation Administration (FAA), DOT.

ACTION: Notice of proposed rulemaking (NPRM).

SUMMARY: This action proposes to amend 11 VOR Federal airways, remove 10 VOR Federal airways; amend four low altitude RNAV routes (T-routes), establish seven T-routes; amend one high altitude RNAV route (Q-route), and establish one Q-route. This action would support the Northeast Corridor Atlantic Coast Route Project and the VOR Minimum Operational Network (VOR MON) Program to improve the efficiency of the National Airspace System (NAS) and reduce dependency on ground-based navigational systems.

DATES: Comments must be received on or before March 5, 2021.

ADDRESSES: Send comments on this proposal to the U.S. Department of Transportation, Docket Operations, 1200 New Jersey Avenue SE, West Building Ground Floor, Room W12-140, Washington, DC 20590; telephone: 1 (800) 647-5527 or (202) 366-9826. You must identify FAA Docket No. FAA-2020-1146; Airspace Docket No. 20-AEA-10 at the beginning of your comments. You may also submit comments through the internet at https://www.regulations.gov.

FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov, or go to https://www.archives.gov/federal-register/cfr/ibr-locations.html.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the airway route structure in the northeastern United States to maintain the efficient flow of air traffic.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2020-1146; Airspace Docket No. 20-AEA-10) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2020-1146; Airspace Docket No. 20-AEA-10”. The postcard will be date/time stamped and returned to the commenter.

All communications received on or before the specified comment closing date will be considered before taking action on the proposed rule. The proposal contained in this action may be changed in light of comments received. A report summarizing each substantive public contact with FAA personnel concerned with this rulemaking will be filed in the docket.

Availability of NPRM's

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Eastern Service Center, Federal Aviation Administration, Room 210, 1701 Columbia Ave., College Park, GA 30337.

Availability and Summary of Documents for Incorporation by Reference

This document proposes to amend FAA Order 7400.11E, Airspace Designations and Reporting Points, dated July 21, 2020, and effective September 15, 2020. FAA Order 7400.11E is publicly available as listed in the ADDRESSES section of this proposed rule. FAA Order 7400.11E lists Class A, B, C, D, and E airspace areas, air traffic service routes, and reporting points.

The Proposal

The FAA is proposing an amendment to Title 14 Code of Federal Regulations (14 CFR) part 71 to amend 11 VOR Federal airways; remove 10 VOR Federal airways; amend four low altitude RNAV routes (T-routes); establish seven T-routes; amend one high altitude RNAV route (Q-route); and establish one Q-route. The proposed VOR Federal airway changes are described below.

The names listed in the VOR Federal airway descriptions are the names of the VOR or VORTAC navigation facilities that form the route. This NPRM proposes changes to some VOR Federal airways having segments in Canadian airspace, and the extension of some Canadian RNAV routes into U.S. airspace. The FAA developed these proposed changes in cooperation with NAV CANADA (Canada's civil air navigation services provider).

The following section describes proposed VOR Federal airway changes.

V-2: V-2 extends, in two parts, between Seattle, WA, and Nodine, MN; and between Buffalo, NY, and Gardner, MA. The FAA proposes to remove the sections between Buffalo and Gardner. As amended, the route would extend between Seattle, WA, and Nodine, MN. Additional changes to other portions of the airway have been proposed in a separate NPRM.

V-3: V-3 extends between Key West, FL, and Quebec, PQ, Canada. The FAA proposes to remove the segments between the intersection of the Boston, MA, 014°, and the Pease, NH, 185° radials, and Houlton, ME. As amended, V-3 would consist of two parts: Between Key West, FL, and Boston, MA; and between Presque Isle, ME, and Quebec, Canada. The airspace within Restricted areas R-2916, R-2934, R-2935, and within Canada is excluded.

V-14: V-14 extends, in two parts, between Chisum, NM, and Flag City, OH; and between Buffalo, NY, and Norwich, CT. This action proposes to remove the sections between Buffalo and Norwich. As amended, V-14 would extend between Chisum, NM, and Flag City, OH. Additional changes to other portions of the airway have been proposed in a separate NPRM.

V-29: V-29 extends between Snow Hill, MD, and Massena, NY. This action would remove the sections between Watertown, NY, and Massena, NY. As amended, V-29 would extend between Snow Hill, MD, and Syracuse, NY.

V-39: V-39 extends between Sandhills, SC, and Mont Joli, PQ, Canada. This action would remove the sections between Chester, MA, and Augusta, ME. As amended, V-39 would consist of two parts: Between Sandhills, SC, and the intersection of the Barnes, MA, 265°, and the Chester, MA, 223° radials; and between Augusta, ME, and Mont Joli, PQ, Canada, excluding the portion within Canada.

V-93: V-93 consists of two parts: Extending between Patuxent River, MD, and the intersection of the Wilkes-Barre, PA, 037°, and the Sparta, NJ, 300° radials; and between the intersection of the Sparta, NJ, 018°, and the Kingston, NY, 270° radials, and Bangor, ME. This action would remove the sections between Chester, MA, and Bangor, ME. The amended route would extend between Patuxent River, MD, and the intersection of the Barnes, MA, 265°, and the Chester, MA, 223° radials.

V-106: V-106 consists of two parts: Between Johnstown, PA, and the intersection of the Wilkes-Barre, PA, 037°, and the Sparta, NJ, 300° radials; and between Barnes, MA, and Kennebunk, ME. This proposal would remove the sections between Barnes, MA, and Kennebunk, ME. The amended route would extend between Johnstown, PA, and the intersection of the Wilkes-Barre, PA, 037°, and the Sparta, NJ, 300° radials.

V-145: V-145 extends between Utica, NY, and the intersection of the Watertown, NY, 005°, and the Ottawa, ON, Canada 185° radials. The FAA proposes to remove the entire route.

V-196: V-196 extends between Utica, NY, and the intersection of the Saranac Lake, NY, 058°, and the Burlington, VT, 296° radials. The FAA proposes to remove the entire route.

V-203: V-203 extends between the intersection of the Chester, MA, 266°, and the Albany, NY, 134° radials, and Massena, NY. The FAA proposes to remove the entire route.

V-229: V-229 extends between Patuxent, MD, and Burlington, VT. This proposal would remove the segments between Hartford, CT, and Burlington, VT. As amended, V-229 would extend between Patuxent, MD, and Hartford, CT.

V-249: V-249 extends between Robbinsville, NJ, and Utica, NY. This action would remove the segments between DeLancey, NY, and Utica, NY. The amended route would extend between Robbinsville, NJ, and DeLancey, NY.

V-273: V-273 extends between the intersection of the Huguenot, NY, 134°, and the Solberg, NJ, 044° radials, and Syracuse, NY. The FAA proposes to remove the segments between Hancock, NY, and Syracuse, NY. As amended, the route would extend between the intersection of the above noted Huguenot and Solberg radials, and Hancock, NY.

V-282: V-282 extends between Saranac Lake, NY, and the intersection of the Saranac Lake, NY, 008° and the Massena, NY, 080° radials. The FAA proposes to remove the entire route.

V-318: V-318 extends between the intersection of the Beauce, PQ, Canada, 103°, and the Quebec, PQ Canada, 047° radials, through United States airspace, to St. John, NB, Canada. The FAA proposes to remove the entire route.

V-322: V-322 extends between Concord, NH, and the intersection of the Concord, NH, 022°, and the Augusta, ME, 265° radials. The FAA proposes to remove the entire route.

V-352: V-352 extends between the intersection of the Beauce, PQ, Canada 085° and the Bangor, ME, 336° radials, and Houlton, ME. The FAA proposes to remove the entire route.

V-428: V-428 extends between Georgetown, NY, and Utica, NY. The FAA proposes to remove the entire route.

V-471: V-471 extends between Bangor, ME, and the intersection of the Houlton, ME, 085° radial, and the United States Canadian border. This proposal would remove the segments between Millinocket, ME, and the above border intersection. As amended, the route would extend between Bangor, ME, and Millinocket, ME.

V-490: V-490 extends Utica, NY, and Manchester, NH. The FAA proposes to remove the entire route.

V-542: V-542 currently extends between Elmira, NY, and Lebanon, NH. A separate rulemaking action proposes to remove the route segments between Rockdale, NY, and Lebanon, NH. This NPRM proposes to remove the entire remaining route.

The following section describes proposed changes to U.S. low altitude RNAV routes.

T-295: T-295 extends between the LOUIE, MD, waypoint (WP), and the Bangor, ME, VORTAC. This action proposes to extend the route northeastward from Bangor, ME, to Presque Isle, ME. The Keene, NH (EEN) VORTAC is replaced by the KEYNN, NH, WP, which is located 60 feet north of the Keene VORTAC. The amended route would extend between LOUIE, MD, and Presque Isle, ME.

T-314: T-314 is a proposed new route that would extend between the Barnes, MA, VORTAC, and the Kennebunk, ME, VOR/DME.

T-315: T-315 is a proposed new route that would extend between the Hartford, CT, VOR/DME and the Burlington, VT, VOR/DME.

T-316: T-316 is a proposed new route that would extend between the LAMMS, NY, WP, and the MANCH, NH, WP.

T-391: T-391 extends between the TUMPS, NY, Fix, and the SSENA, NY, WP. This action proposes to remove the TUMPS Fix and extend the route southeast from the Syracuse, NY, VORTAC, to the Hancock, NY, VOR/DME. As amended, the route would extend between Hancock, NY, and SSENA, NY.

The following section describes proposed changes to Canadian low altitude RNAV routes.

T-608: T-608 is an existing Canadian route that was extended into U.S. airspace in 2014 (79 FR 57758, September 26, 2014). It currently extends between the HOCKE, MI, WP, through Canadian airspace, and ends at the WOZEE, NY, WP. This proposal would extend the route from the WOZEE WP eastward into U.S. airspace to the YANTC, CT, WP. The amended T-608 would overlie VOR Federal airway V-2 between the WOZEE, NY, WP and the Gardner, MA (GDM), VORTAC; and it would overlie V-14 between the Albany, NY (ALB), VORTAC and the YANTC, CT, WP. The YANTC, CT, WP replaces the Norwich, CT (ORW), VOR/DME. The LAMMS, NY, WP replaces the Utica, NY (UCA), VORTAC. As amended, T-608 would extend from the HOCKE, MI, WP, through Canadian airspace, to the WOZEE, NY, WP; and from the WOZEE WP, to the YANCT WP. The order of points listed in the route description is changed to read from “west to east” to comply with formatting requirements.

T-634: T-634 is an existing Canadian route that the FAA proposes to extend into U.S. airspace. The route currently ends at the VIBRU, Canada, WP (adjacent to the U.S./Canadian border). The VIBRU WP will be moved 0.55NM to the south of its current position to align it with the U.S./Canada border. It will be re-labled as “VIBRU, NY.” The FAA proposes to extend T-634 into U.S. airspace between the Syracuse, NY, VORTAC, and the VIBRU, NY, WP. The extended portion of the route would replace VOR Federal airway V-145 as described above.

T-662: T-662 is a Canadian route that would be extended into U.S. airspace between the DEPRI, ME, WP, and the HULTN, ME, WP. The HULTN WP would replace the Houlton, ME (HUL) VOR/DME. It is located 60 feet east of the Houlton VOR/DME. T-662 would extend across Maine from the DEPIR WP to the KATAH, ME, WP, to the HULTN, ME, WP. T-662 would replace VOR Federal airway V-352 as described above.

T-698: T-698 is a Canadian route that would be extended to cross the State of Maine from the EBGIX, ME, WP, to the HULTN, ME, WP, to the ACTON, ME, WP. The EBGIX WP is being moved 1.16NM east to coincide with the U.S./Canada border in western Maine. The ACTON WP is a new point to be added on the U.S./Canada border to the southeast of the Houlton, ME (HUL) VOR/DME.

T-705: T-705 is an existing Canadian route that was extended into U.S. airspace, between the U.S./Canadian border, and the Utica, NY, VORTAC, in 2018 (83 FR 31855, July 10, 2018). This proposal would extend T-705 further southward to the DANZI, NY, WP (near the Delancey, NY, VOR/DME). The Utica, NY, VORTAC, and the Saranac Lake, NY, VOR/DME would be removed from the route. The new LAMMS, NY, WP would replace the Utica VORTAC, and the new SRACK, NY, WP would replace the Saranac Lake VOR/DME in the route description. The MUTNA, Canada, WP would be moved 0.79NM southward to align with the U.S./Canada border. It would be re-labled as “MUTNA, NY.” As amended, the U.S. portion of T-705 would extend between the DANZI, NY, WP and MUTNA, NY, WP at the U.S./Canadian border.

T-781: T-781 is a Canadian route that was extended into U.S. airspace in 2014 (79 FR 57758, September 26, 2014). Currently, the U.S. portion of the route extends from the Flint, MI, VORTAC, eastward to the AXOBU, Canada, WP (in the vicinity of the U.S./Canadian border near Port Huron, MI). T-781 then continues eastward across Canada and terminates at the PINTE, Canada Fix (on the U.S./Canadian border). The PINTE Fix would be moved 0.07 NM east to the U.S./Canada border and would be converted to a WP. This proposal would extend T-781 eastward from the PINTE, ME, WP to terminate at the HULTN, ME WP. As amended, the U.S. portion of T-781 would extend between the Flint, MI, VORTAC, and the AXOBU, Canada, Fix; and between the PINTE, ME, WP, and the HULTN, ME, WP.

The following section describes proposed changes to Canadian high altitude RNAV routes.

Q-806: Q-806 is a Canadian route that was extended into U.S. airspace in 2014 (79 FR 57758, September 26, 2014). The U.S. portion currently extends from the MEKSO, Canada, WP, eastward through the Millinocket, ME, VOR/DME, to the CANME, ME, WP, and the VOGET, Canada, WP. Canada is realigning Q-806 by shifting the route segment from the MEKSO, Canada, WP, southward to the VINDI, Canada, WP. The VINDI WP would be moved 0.13NM eastward to align with the U.S./Canada border and listed as “VINDI, ME.” Consequently, this proposal would remove the route segment between the MEKSO WP and the Millinocket, ME, VOR/DME, and add the segment between the VINDI, ME, WP, and the Millinocket VOR/DME. The VIGDU, Canada, WP would be moved 0.50NM westward to align with the U.S./Canada border and listed as “VIGDU, ME.” The VIGDU, ME, WP added east of the CANME, ME, WP. As amended, the U.S. portion of Q-806 would extend from the VINDI, ME, WP, eastward to the Millinocket, ME, VOR/DME, to the CANME, ME, WP, to the VIGDU, ME, WP.

Q-864: Q-864 is an existing Canadian route that the FAA proposes to extend into U.S. airspace across northern Maine. The route currently ends at the EBGIX, Canada, WP (at the U.S./Canadian border in western Maine). This action would extend the route eastward from EBGIX, across the State of Maine, running north of the Millinocket, ME, VOR/DME, to the TUGUB, Canada, WP (located southeast of the Houlton, ME, VOR/DME) where it would rejoin the remainder of Q-864 into Canada. The EBGIX WP would be moved 1.16NM eastward to align with the U.S./Canadian border, and the TUGUB WP would be moved 1.23NM west to align with the U.S./Canada border. The amended Q-864 would extend between the EBGIX, ME, WP, and the TUGUB, ME, WP.

The proposed full descriptions of the above route changes are found in “The Proposed Amendment” section of this NPRM.

Domestic VOR Federal airways are published in paragraph 6010(a); United States area navigation routes are published in paragraph 6011; and Canadian area navigation routes are published in paragraphs 2007, and 6013; respectively, of FAA Order 7400.11E, dated July 21, 2020, and effective September 15, 2020, which is incorporated by reference in 14 CFR 71.1. The VOR Federal airways and area navigation routes listed in this document would be subsequently published in the Order.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 6010(a) Domestic VOR Federal Airways.

* * * * *

V-2 [Amended]

From Seattle, WA; Ellensburg, WA; Moses Lake, WA; Spokane, WA; Mulan Pass, ID; Missoula, MT; Helena, MT; INT Helena 119° and Livingston, MT, 322° radials; Livingston; Billings, MT; Miles City, MT; 24 miles, 90 miles 55 MSL, Dickinson, ND; 10 miles, 60 miles 38 MSL, Bismarck, ND; 14 miles, 62 miles 34 MSL, Jamestown, ND; Fargo, ND; Alexandria, MN; Gopher, MN; to Nodine, MN.

V-3 [Amended]

From Key West, FL; INT Key West 083° and Dolphin, FL, 191°radials; Dolphin; Ft. Lauderdale, FL; Palm Beach, FL; Treasure, FL; Melbourne, FL; Ormond Beach, FL; Brunswick, GA; INT Brunswick 014° and Savannah, GA, 177° radials; Savannah; INT Savannah 028° and Vance, SC, 203° radials; Vance; Florence, SC; Sandhills, SC; Raleigh-Durham, NC; INT Raleigh-Durham 016° and Flat Rock, VA, 214° radials; Flat Rock; Gordonsville, VA; INT Gordonsville 331° and Martinsburg, WV, 216° radials; Martinsburg; Westminster, MD; INT Westminster 048° and Modena, PA, 258° radials; Modena; Solberg, NJ; INT Solberg 044° and Carmel, NY, 243° radials; Carmel; Hartford, CT; INT Hartford 084° and Boston, MA, 224° radials; to Boston. From Presque Isle, ME; to Quebec, PQ, Canada. The airspace within R-2916, R-2934, R-2935, and within Canada is excluded.

* * * * *

V-14 [Amended]

From Chisum, NM; Lubbock, TX; Childress, TX; Hobart, OK; Will Rogers, OK; INT Will Rogers 052° and Tulsa, OK, 246° radials; Tulsa; Neosho, MO; Springfield, MO; Vichy, MO; INT Vichy 067° and St. Louis, MO, 225° radials; St. Louis; Vandalia, IL; Terre Haute, IN; Brickyard, IN; Muncie, IN; to Flag City, OH.

* * * * *

V-29 [Amended]

From Snow Hill, MD; Salisbury, MD; Smyrna, DE; DUPONT, DE; Modena, PA; Pottstown, PA; East Texas, PA; Wilkes-Barre, PA; Binghamton, NY; INT Binghamton 005° and Syracuse, NY, 169° radials; to Syracuse.

* * * * *

V-39 [Amended]

From Sandhills, NC, South Boston, VA; Gordonsville, VA; INT Gordonsville 331° and Martinsburg, WV, 216° radials; Martinsburg; Lancaster, PA; East Texas, PA; Sparta, NJ; Carmel, NY; INT Carmel 045° and Bridgeport, CT, 343° radials; INT Bridgeport 343° and Chester, MA, 223° radials; to INT Barnes, MA 265° and Chester 223° radials; From Augusta, ME; Millinocket, ME; Presque Isle, ME; Mont Joli, PQ, Canada, excluding the portion within Canada.

* * * * *

V-93 [Amended]

From Patuxent River, MD, INT Patuxent 013° and Baltimore, MD, 122° radials; Baltimore; INT Baltimore 004° and Lancaster, PA, 214° radials; Lancaster; Wilkes-Barre, PA; to INT Wilkes-Barre 037° and Sparta, NJ 300° radials. From INT Sparta 018° and Kingston, NY, 270° radials; Kingston; Pawling, NY; to INT Barnes, MA 265° and Chester 223° radials.

* * * * *

V-106 [Amended]

From Johnstown, PA; INT Johnstown 068° and Selinsgrove, PA, 259° radials; Selinsgrove; INT Selinsgrove 067° and Wilkes-Barre, PA, 237° radials; Wilkes-Barre; to INT Wilkes-Barre 037° and Sparta, NJ 300° radials.

* * * * *

V-145 [Removed]

* * * * *

V-196 [Removed]

* * * * *

V-203 [Removed]

* * * * *

V-229 [Amended]

From Patuxent, MD; INT Patuxent 036° and Atlantic City, NJ, 236° radials; Atlantic City; INT Atlantic City 055° and Colts Neck, NJ, 181° radials; INT Colts Neck 181° and Kennedy, NY, 209° radials; Kennedy; INT Kennedy 040° and Calverton, NY, 261° radials; INT Calverton 261° and Kennedy 053° radials; INT Kennedy 053° and Bridgeport, CT, 200° radials; Bridgeport; to Hartford, CT; The airspace within R-5002B is excluded during times of use. The airspace below 2,000 feet MSL outside the United States is excluded.

* * * * *

V-249 [Amended]

From Robbinsville, NJ; INT Robbinsville 320° and Solberg, NJ, 161° radials; Solberg; Sparta, NJ; INT Sparta 018° and Delancey, NY, 119° radials; to DeLancey.

* * * * *

V-273 [Amended]

From INT Huguenot, NY, 134° and Solberg, NJ, 044° radials; Huguenot; INT Huguenot 303° and Hancock, NY, 148° radials; to Hancock;

* * * * *

V-282 [Removed]

* * * * *

V-318 [Removed]

* * * * *

V-322 [Removed]

* * * * *

V-352 [Removed]

* * * * *

V-428 [Removed]

* * * * *

V-471 [Amended]

From Bangor, ME; to Millinocket, ME.

* * * * *

V-490 [Removed]

* * * * *

V-542 [Removed]

* * * * *

Paragraph 6011 United States Area Navigation Routes

* * * * *

T-295 LOUIE, MD to Presque Isle, ME (PQI) [Amended]
LOUIE, MD | WP | (Lat. 38°36′44.33″ N, long. 076°18′04.37″ W)
BAABS, MD | WP | (Lat. 39°19′51.39″ N, long. 076°24′40.87″ W)
Lancaster, PA (LRP) | VOR/DME | (Lat. 40°07′11.91″ N, long. 076°17′28.66″ W)
Wilkes-Barre, PA (LVZ) | VORTAC | (Lat. 41°16′22.08″ N, long. 075°41′22.08″ W)
LAAYK, PA | WP | (Lat. 41°28′32.64″ N, long. 075°28′57.31″ W)
SAGES, NY | WP | (Lat. 42°02′46.33″ N, long. 074°19′10.33″ W)
SASHA, MA | WP | (Lat. 42°07′58.70″ N, long. 073°08′55.39″ W)
KEYNN, NH | WP | (Lat. 42°47′39.99″ N, long. 072°17′30.35″ W)
Concord, NH (CON) | VOR/DME | (Lat. 43°13′11.23″ N, long. 071°34′31.63″ W)
Kennebunk, ME (ENE) | VOR/DME | (Lat. 43°25′32.42″ N, long. 070°36′48.69″ W)
BRNNS, ME | WP | (Lat. 43°54′08.64″ N, long. 069°56′42.81″ W)
Bangor, ME (BGR) | VORTAC | (Lat. 44°50′30.46″ N, long. 068°52′26.28″ W)
LAUDS, ME | FIX | (Lat. 45°25′10.13″ N, long. 068°12′26.96″ W)
HULTN, ME | WP | (Lat. 46°02′22.29″ N, long. 067°50′02.06″ W)
Presque Isle, ME (PQI) | VOR/DME | (Lat. 46°46′27.07″ N, long. 068°05′40.37″ W)
* * * * *
T-314 BARNES, MA (BAF) to KENNEBUNK, ME (ENE) [New]
Barnes, MA (BAF) | VORTAC | (Lat. 42°09′43.05″ N, long. 072°42′58.32″ W)
FAIDS, MA | FIX | (Lat. 42°17′00.75″ N, long. 072°30′33.91″ W)
PUDGY, MA | FIX | (Lat. 42°19′38.52″ N, long. 072°26′04.25″ W)
LAPEL, MA | FIX | (Lat. 42°27′40.92″ N, long. 072°12′15.79″ W)
Gardner, MA (GDM) | VOR/DME | (Lat. 42°32′45.31″ N, long. 072°03′29.48″ W)
JOHNZ, NH | FIX | (Lat. 42°43′22.87″ N, long. 071°40′55.80″ W)
MANCH, NH | WP | (Lat. 42°52′12.03″ N, long. 071°22′06.54″ W)
KHRIS, NH | FIX | (Lat. 42°57′01.09″ N, long. 071°15′35.56″ W)
RAYMY, NH | FIX | (Lat. 43°03′36.89″ N, long. 071°06′42.16″ W)
YUKES, ME | FIX | (Lat. 43°16′47.89″ N, long. 070°48′47.74″ W)
Kennebunk, ME (ENE) | VOR/DME | (Lat. 43°25′32.42″ N, long. 070°36′48.69″ W)
T-315 HARTFORD, CT (HFD) to BURLINGTON, VT (BTV) [New]
Hartford, CT (HFD) | VOR/DME | (Lat. 41°38′27.98″ N, long. 072°32′50.70″ W)
DVANY, CT | WP | (Lat. 41°51′44.56″ N, long. 072°18′11.25″ W)
DARTH, CT | WP | (Lat. 41°56′55.86″ N, long. 072°16′20.80″ W)
WITNY, MA | WP | (Lat. 42°02′57.82″ N, long. 072°14′11.96″ W)
SPENO, MA | WP | (Lat. 42°16′48.55″ N, long. 072°09′14.70″ W)
Gardner, MA (GDM) | VOR/DME | (Lat. 42°32′45.31″ N, long. 072°03′29.48″ W)
KEYNN, NH | WP | (Lat. 42°47′39.99″ N, long. 072°17′30.35″ W)
JAMMA, VT | WP | (Lat. 43°16′11.87″ N, long. 072°35′10.63″ W)
EBERT, VT | FIX | (Lat. 43°32′58.08″ N, long. 072°45′42.45″ W)
MUDDI, VT | WP | (Lat. 43°44′39.85″ N, long. 072°51′26.92″ W)
Burlington, VT (BTV) | VOR/DME | (Lat. 44°23′49.58″ N, long. 073°10′57.48″ W)
T-316 LAMMS, NY to MANCH, NH [New]
LAMMS, NY | WP | (Lat. 43°01′35.30″ N, long. 075°09′51.50″ W)
ROOMS, NY | WP | (Lat. 43°01′09.84″ N, long. 074°35′03.27″ W)
PAYGE, NY | WP | (Lat. 43°00′50.48″ N, long. 074°15′12.76″ W)
GALWA, NY | FIX | (Lat. 43°00′34.00″ N, long. 074°00′34.51″ W)
ETZUN, NY | FIX | (Lat. 42°59′55.04″ N, long. 073°31′03.83″ W)
Cambridge, NY (CAM) | VOR/DME | (Lat. 42°59′39.44″ N, long. 073°20′38.47″ W)
DORIS, VT | WP | (Lat. 42°58′42.88″ N, long. 073°03′51.57″ W)
BRATS, VT | FIX | (Lat. 42°57′19.89″ N, long. 072°40′27.73″ W)
STRUM, NH | WP | (Lat. 42°55′51.18″ N, long. 072°16′48.88″ W)
DUBIN, NH | FIX | (Lat. 42°54′43.15″ N, long. 071°59′35.41″ W)
MUGGY, NH | WP | (Lat. 42°53′44.91″ N, long. 071°45′17.41″ W)
BASUU, NH | FIX | (Lat. 42°53′17.86″ N, long. 071°38′48.69″ W)
MANCH, NH | WP | (Lat. 42°52′12.03″ N, long. 071°22′06.54″ W)
* * * * *
T-391 HANCOCK, NY (HNK) to SSENA, NY [Amended]
Hancock, NY (HNK) | VOR/DME | (Lat. 42°03′47.01″ N, long. 075°18′58.62″ W)
OXFOR, NY | FIX | (Lat. 42°22′03.81″ N, long. 075°31′44.03″ W)
PITCH, NY | FIX | (Lat. 42°40′36.94″ N, long. 075°44′49.58″ W)
GTOWN, NY | WP | (Lat. 42°47′20.81″ N, long. 075°49′36.52″ W)
POMPY, NY | FIX | (Lat. 42°55′48.00″ N, long. 075°58′10.10″ W)
FATUP, NY | FIX | (Lat. 43°01′31.89″ N, long. 076°03′59.74″ W)
Syracuse, NY (SYR) | VORTAC | (Lat. 43°09′37.87″ N, long. 076°12′16.41″ W)
PAGER, NY | FIX | (Lat. 43°25′25.64″ N, long. 076°09′30.34″ W)
BRUIN, NY | FIX | (Lat. 43°39′59.04″ N, long. 076°06′55.97″ W)
Watertown, NY (ART) | VORTAC | (Lat. 43°57′07.67″ N, long. 076°03′52.66″ W)
WILRD, NY | FIX | (Lat. 44°15′43.61″ N, long. 075°47′03.12″ W)
LETUS, NY | FIX | (Lat. 44°37′22.34″ N, long. 075°27′11.44″ W)
SSENA, NY | WP | (Lat. 44°54′51.43″ N, long. 074°43′21.31″ W)

* * * * *

Paragraph 2007 Canadian Area Navigation Routes

* * * * *

Q-806 VINDI, ME to VIGDU, ME [Amended]
VINDI, ME | WP | (Lat. 45°40′16.23″ N, long. 070°31′10.90″ W)
MILLINOCKET, ME (MLT) | VOR/DME | (Lat. 45°35′12.15″ N, long. 068°30′55.67″ W)
CANME, ME | WP | (Lat. 45°29′16.29″ N, long. 067°37′16.80″ W)
VIGDU, ME | WP | (Lat. 45°28′25.25″ N, long. 067°29′43.86″ W)
* * * * *
Q-864 EBGIX, ME to TUGUB, ME [New]
EBGIX, ME | WP | (Lat. 45°43′32.67″ N, long. 070°23′50.92″ W)
TUGUB, ME | WP | (Lat. 45°58′42.08″ N, long. 067°46′52.21″ W)

* * * * *

Paragraph 6013 Canadian Area Navigation Routes

* * * * *

T-608 HOCKE, MI to YANTC, CT [Amended]
HOCKE, MI | WP | (Lat. 43°15′43.38″ N, long. 082°42′38.27″ W)
KATNO, Canada | WP | (Lat. 43°10′34.00″ N, long. 082°19′32.00″ W)
UKNIX, NY | WP | (Lat. 42°56′44.51″ N, long. 078°55′05.60″ W)
WOZEE, NY | WP | (Lat. 42°56′01.65″ N, long. 078°44′19.64″ W)
CLUNG, NY | WP | (Lat. 43°03′17.17″ N, long. 078°00′13.38″ W)
MONCK, NY | WP | (Lat. 43°04′33.36″ N, long. 077°53′36.67″ W)
Rochester, NY (ROC) | VOR/DME | (Lat. 43°07′04.65″ N, long. 077°40′22.06″ W)
LORTH, NY | FIX | (Lat. 43°07′47.93″ N, long. 077°19′05.32″ W)
MAGEN, NY | WP | (Lat. 43°08′03.28″ N, long. 077°11′00.84″ W)
KONDO, NY | WP | (Lat. 43°08′48.99″ N, long. 076°45′01.72″ W)
WIFFY, NY | WP | (Lat. 43°09′07.96″ N, long. 076°33′00.08″ W)
Syracuse, NY (SYR) | VORTAC | (Lat. 43°09′37.87″ N, long. 076°12′16.41″ W)
STODA, NY | WP | (Lat. 43°07′00.20″ N, long. 075°51′21.23″ W)
VASTS, NY | FIX | (Lat. 43°04′34.62″ N, long. 075°32′29.89″ W)
LAMMS, NY | WP | (Lat. 43°01′35.30″ N, long. 075°09′51.50″ W)
NORSE, NY | WP | (Lat. 42°57′37.88″ N, long. 074°50′03.72″ W)
MARIA, NY | WP | (Lat. 42°50′02.76″ N, long. 074°13′00.50″ W)
Albany, NY (ALB) | VORTAC | (Lat. 42°44′50.20″ N, long. 073°48′11.47″ W)
WARUV, NY | WP | (Lat. 42°45′52.14″ N, long. 073°34′41.41″ W)
GRAVE, NY | WP | (Lat. 42°46′47.34″ N, long. 073°22′20.91″ W)
GRISY, MA | WP | (Lat. 42°41′46.40″ N, long. 072°53′30.14″ W)
WARIC, MA | WP | (Lat. 42°37′42.00″ N, long. 072°30′37.72″ W)
HURLY, MA | FIX | (Lat. 42°35′19.49″ N, long. 072°17′30.40″ W)
Gardner, MA (GDM) | VOR/DME | (Lat. 42°32′45.31″ N, long. 072°03′29.48″ W)
GRAYM, MA | WP | (Lat. 42°06′04.27″ N, long. 072°01′53.49″ W)
BLATT, CT | WP | (Lat. 41°49′37.10″ N, long. 072°00′54.94″ W)
MOGUL, CT | WP | (Lat. 41°43′22.76″ N, long. 072°00′32.87″ W)
YANTC, CT | WP | (Lat. 41°33′22.81″ N, long. 071°59′56.95″ W)
Excluding the airspace within Canada.
* * * * *
T-634 Syracuse, NY (SYR) to VIBRU, NY [New]
Syracuse, NY (SYR) | VORTAC | (Lat. 43°09′37.87″ N, long. 076°12′16.41″ W)
PAGER, NY | WP | (Lat. 43°25′25.64″ N, long. 076°09′30.34″ W)
BRUIN, NY | WP | (Lat. 43°39′59.04″ N, long. 076°06′55.97″ W)
Watertown, NY (ART) | VORTAC | (Lat. 43°57′07.67″ N, long. 076°03′52.66″ W)
VIBRU, NY | WP | (Lat. 44°20′21.30″ N, long. 076°01′19.96″ W)
* * * * *
T-662 DEPRI, ME to HULTN, ME [New]
DEPRI, ME | WP | (Lat. 45°57′13.32″ N, long. 070°15′23.83″ W)
KATAH, ME | WP | (Lat. 46°05′00.00″ N, long. 069°00′00.00″ W)
HULTN, ME | WP | (Lat. 46°02′22.29″ N, long. 067°50′02.06″ W)
* * * * *
T-698 EBGIX, ME to ACTON ME [New]
EBGIX, ME | WP | (Lat. 45°43′32.67″ N, long. 070°23′50.92″ W)
HULTN, ME | WP | (Lat. 46°02′22.29″ N, long. 067°50′02.06″ W)
ACTON, ME | WP | (Lat. 46°02′33.81″ N, long. 067°46′51.65″ W)
* * * * *
T-705 DANZI, NY to MUTNA, NY [Amended]
DANZI, NY | WP | (Lat. 42°10′41.86″ N, long. 074°57′24.19″ W)
CODDI, NY | FIX | (Lat. 42°22′52.15″ N, long. 075°00′21.84″ W)
MILID, NY | FIX | (Lat. 42°30′25.88″ N, long. 075°02′12.28″ W)
LAMMS, NY | WP | (Lat. 43°01′35.30″ N, long. 075°09′51.50″ W)
USICI, NY | WP | (Lat. 43°11′23.04″ N, long. 075°03′06.15″ W)
GACKE, NY | WP | (Lat. 43°19′11.10″ N, long. 074°57′40.88″ W)
BECKS, NY | WP | (Lat. 43°32′56.63″ N, long. 074°48′03.47″ W)
SMAIR, NY | WP | (Lat. 44°03′32.47″ N, long. 074°26′20.99″ W)
FOSYU, NY | WP | (Lat. 44°12′25.39″ N, long. 074°19′58.15″ W)
SRACK, NY | WP | (Lat. 44°23′05.00″ N, long. 074°12′16.11″ W)
UUBER, NY | WP | (Lat. 44°28′00.25″ N, long. 074°01′10.54″ W)
RIGID, NY | WP | (Lat. 44°35′19.53″ N, long. 073°44′34.07″ W)
PBERG, NY | WP | (Lat. 44°42′06.25″ N, long. 073°31′22.18″ W)
LATTS, NY | WP | (Lat. 44°51′29.78″ N, long. 073°32′29.26″ W)
MUTNA, NY | WP | (Lat. 45°00′20.84″ N, long. 073°33′27.65″ W)
* * * * *
T-781 Flint, MI (FNT) to HULTN ME [Amended]
Flint, MI (FNT) | VORTAC | (Lat. 42°58′00.38″ N, long. 083°44′49.08″ W)
KATTY, MI | WP | (Lat. 42°57′50.59″ N, long. 083°30′50.76″ W)
HANKY, MI | WP | (Lat. 42°57′43.51″ N, long. 083°21′59.93″ W)
ADRIE, MI | WP | (Lat. 42°57′29.80″ N, long. 083°06′49.84″ W)
MARGN MI | WP | (Lat. 42°56′59.18″ N, long. 082°38′49.14″ W)
BLUEZ, MI | WP | (Lat. 42°56′49.98″ N, long. 082°31′36.44″ W)
AXOBU, Canada | WP | (Lat. 42°56′39.51″ N, long. 082°23′42.31″ W)
PINTE, ME | FIX | (Lat. 46°26′44.89″ N, long. 070°03′01.26″ W)
HULTN ME | WP | (Lat. 46°02′22.29″ N, long. 067°50′02.06″ W)
Excluding the airspace within Canada.

* * * * *

Issued in Washington, DC, on January 5, 2021.
George Gonzalez,
Acting Manager, Rules and Regulations Group.

[FR Doc. 2021-00655 Filed 1-15-21; 8:45 am]

BILLING CODE 4910-13-P